DEPARTMENT OF ENERGY

Federal Energy Regulatory Commission

[Project No. 3253-015]

Mad River Power Associates; Notice of Waiver Period for Water Quality Certification Application

On October 20, 2021, Mad River Power Associates submitted to the Federal Energy Regulatory Commission a copy of its application for a Clean Water Act section 401(a)(1) water quality certification filed with the New Hampshire Department of Environmental Services (New Hampshire DES), in conjunction with the above captioned project. Pursuant to 40 CFR 121.6, we hereby notify the New Hampshire DES of the following:

Date of Receipt of the Certification Request: October 8, 2021.

Reasonable Period of Time to Act on the Certification Request: One year (October 8, 2022).

If New Hampshire DES fails or refuses to act on the water quality certification request on or before the above date, then the agency's certifying authority is deemed waived pursuant to section 401(a)(1) of the Clean Water Act, 33 U.S.C. 1341(a)(1).

Dated: November 4, 2021.
Debbie-Anne A. Reese,
Deputy Secretary.

[FR Doc. 2021-24590 Filed 11-9-21; 8:45 am]

BILLING CODE 6717-01-P